DEPARTMENT OF LABOR

Employment and Training Administration

[TA-W-57,031]

Pilling/Weck, a Subsidiary of Teleflex, Including On-Site Leased Workers of Aerotek and Acsys; Horsham, PA; Amended Certification Regarding Eligibility To Apply for Worker Adjustment Assistance and Negative Determination Regarding Eligibility To Apply for Alternative Trade Adjustment Assistance

In accordance with section 223 of the Trade Act of 1974 (19 U.S.C. 2273) the Department of Labor issued a Certification of Eligibility to Apply for Worker Adjustment Assistance and a Negative Determination Regarding Eligibility to Apply for Alternative Trade Adjustment Assistance on May 26, 2005, applicable to workers of Pilling/Weck, a subsidiary of Teleflex, including on-site leased workers of Aerotek, Horsham, Pennsylvania. The notice will be published soon in the Federal Register.

At the request of the State agency, the Department reviewed the certification for workers of the subject firm. New information shows that leased workers of Acsys were employed on-site at the Horsham, Pennsylvania location of Pilling/Weck, a subsidiary of Teleflex.

Based on these findings, the Department is amending this certification to include leased workers of Acsys working at Pilling/Weck, a subsidiary of Teleflex, Horsham, Pennsylvania.

The intent of the Department's certification is to include all workers employed at Pilling/Weck, a subsidiary of Teleflex who were adversely affected by a shift in production to South Korea, Pakistan and Germany.

The amended notice applicable to TA-W-57,031 is hereby issued as follows:

“All workers of Pilling/Weck, a subsidiary of Teleflex, including on-site leased workers of Aerotek and Acsys, Horsham, Pennsylvania who became totally or partially separated from employment on or after April 20, 2004, through May 26, 2007, are eligible to apply for adjustment assistance under section 223 of the Trade Act of 1974.

I further determine that all workers of Pilling/Weck, a subsidiary of Teleflex, including on-site leased workers of Aerotek and Acsys, Horsham, Pennsylvania are denied eligibility to apply for alternative trade adjustment assistance under section 246 of the Trade Act of 1974.”

Signed at Washington, DC this 7th day of June 2005.
Richard Church,
Certifying Officer, Division of Trade Adjustment Assistance.

[FR Doc. E5-3169 Filed 6-17-05; 8:45 am]

BILLING CODE 4510-30-P